GENERAL SERVICES ADMINISTRATION

[GSA Bulletin FTR 10-04]

Federal Travel Regulation (FTR); Relocation Allowances—Relocation Income Tax Allowance (RITA) Tables

AGENCY: Office of Governmentwide Policy, General Services Administration (GSA).

ACTION: Notice of a Bulletin.

SUMMARY: On June 25, 2008 the General Services Administration (GSA) published FTR Amendment 2008-04 in the Federal Register (73 FR 35952) specifying that GSA would no longer publish the RITA tables found in 41 CFR Part 301-17, Appendices A through D. The tables are instead published at http://www.gsa.gov/relocationpolicy.

FTR Bulletin 10-04 is attached. FTR Bulletin 10-04 and all other FTR Bulletins may be found at http://www.gsa.gov/federaltravelregulation.

DATES: This notice is effective March 16, 2010 and applies to relocations during tax year 2008 and earlier.

FOR FURTHER INFORMATION CONTACT: Mr. Ed Davis, Office of Governmentwide Policy (M), Office of Travel, Transportation, and Asset Management (MT), General Services Administration at (202) 208-7638 or via e-mail at ed.davis@gsa.gov. Please cite FTR Bulletin 10-04.

Dated: March 16, 2010.
Michael Robertson,
Associate Administrator for Governmentwide Policy, Chief Acquisition Officer.

[FR Doc. 2010-6610 Filed 3-24-10; 8:45 am]

BILLING CODE 6820-14-P